FEDERAL COMMUNICATIONS COMMISSION

47 CFR Part 73

[DA 05-580; MB Docket No. 05-79; RM-10983]

Radio Broadcasting Services; Opelika, AL and Smyrna, GA

AGENCY: Federal Communications Commission.

ACTION: Proposed rule.

SUMMARY: This document requests comments on a petition for rulemaking filed by Opelika Broadcasting Company, proposing the allotment of Channel 232A at Opelika, Alabama, as the community's second local FM transmission service. To accommodate the allotment, petitioner also proposed the reclassification of Station WSTR(FM), Smyrna, Georgia, from Channel 231C to Channel 231C0 pursuant to the Commission's reclassification procedures. Channel 232A can be allotted at Opelika in compliance with the Commission's minimum distance separation requirements with a site restriction of 7.6 kilometers (4.7 miles) north to avoid a short-spacing to the licensed site of Station WIZB(FM), Channel 232C3, Abbeville, Alabama. The coordinates for Channel 232A at Opelika are 32-42-59 North Latitude and 85-23-22 West Longitude. Additionally, Station WSTR(FM) at Smyrna can also be reclassified to Channel 231C0 at its presently licensed site. The coordinates for Channel 231C0 at Smyrna are 33-45-35 North Latitude and 84-20-07 West Longitude.

DATES: Comments must be filed on or before April 25, 2005, and reply comments on or before May 10, 2005. Any counterproposal filed in this proceeding need only protect Station WSTR(FM) Smyrna, Georgia, as a Class C0 allotment.

ADDRESSES: Federal Communications Commission, 445 Twelfth Street, SW., Washington, DC 20554. In addition to filing comments with the FCC, interested parties should serve the Counsel for Petitioner as follows: Scott C. Cinnamon, Esq. 1090 Vermont Avenue, NW., Suite 800, Washington, DC 20005.

FOR FURTHER INFORMATION CONTACT: Sharon P. McDonald, Media Bureau, (202) 418-2180.

SUPPLEMENTARY INFORMATION: This is a synopsis of the Commission's Notice of Proposed Rule Making, MB Docket No. 05-79, adopted March 2, 2005, and released March 4, 2005. The full text of this Commission decision is available for inspection and copying during normal business hours in the FCC's Reference Information Center at Portals II, CY-A257, 445 Twelfth Street, SW., Washington, DC. This document may also be purchased from the Commission's duplicating contractors, Best Copy and Printing, Inc., Portals II, 445 12th Street, SW., Room CY-B402, Washington, DC 20054, telephone 1-800-378-3160 or http://www.BCPIWEB.com. This document does not contain proposed information collection requirements subject to the Paperwork Reduction Act of 1995 (PRA), Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alabama, is amended by adding Channel 232A at Opelika.

3. Section 73.202(b), the Table of FM Allotments under Georgia, is amended by removing Channel 231C and adding Channel 231C0 at Smyrna.

Federal Communications Commission.
John A. Karousos,
Assistant Chief, Audio Division, Media Bureau.

[FR Doc. 05-5315 Filed 3-16-05; 8:45 am]

BILLING CODE 6712-01-P